DEPARTMENT OF TRANSPORTATION

Federal Aviation Administration

14 CFR Part 39

[Docket No. FAA-2013-0418; Directorate Identifier 2012-NM-200-AD; Amendment 39-17668; AD 2013-23-13]

RIN 2120-AA64

Airworthiness Directives; Airbus Airplanes

AGENCY: Federal Aviation Administration (FAA), Department of Transportation (DOT).

ACTION: Final rule.

SUMMARY: We are adopting a new airworthiness directive (AD) for certain Airbus Model A300 series airplanes; Model A300 B4-600, B4-600R, and F4-600R series airplanes; and Model A300 C4-605R Variant F airplanes (collectively called Model A300-600 series airplanes). This AD was prompted by a report that cracking was found in area 2 of the frame base fittings between frame 41 and frame 46. This AD requires a check of maintenance records to determine if certain repairs were done in area 1 of the frame base fittings, and, for affected airplanes, a detailed inspection for cracking in area 2 of the frame base fittings between frame 41 and frame 46, and repair if necessary. We are issuing this AD to detect and correct cracking in area 2 of the frame base fittings between frame 41 and frame 46, which could adversely affect the structural integrity of the airplane.

DATES: This AD becomes effective December 30, 2013.

The Director of the Federal Register approved the incorporation by reference of a certain publication listed in this AD as of December 30, 2013.

ADDRESSES: You may examine the AD docket on the Internet at http://www.regulations.gov/#!docketDetail;D=FAA-2013-0418 or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone: (425) 227-2125; fax: (425) 227-1149.

SUPPLEMENTARY INFORMATION:

Discussion

We issued a notice of proposed rulemaking (NPRM) to amend 14 CFR part 39 by adding an AD that would apply to the specified products. The NPRM was published in the Federal Register on May 14, 2013 (78 FR 28159). The NPRM proposed to correct an unsafe condition for the specified products. The European Aviation Safety Agency (EASA), which is the Technical Agent for the Member States of the European Community, has issued EASA Airworthiness Directive 2012-0229, dated October 31, 2012 (referred to after this as the Mandatory Continuing Airworthiness Information, or “the MCAI”), to correct an unsafe condition for the specified products. The MCAI states:

During accomplishment of Airbus SB [service bulletin] A300-53-6111, which addresses detailed visual inspections of the lower frame fittings between Frame (FR) 41 and FR 46, on one A300-600 aeroplane a crack was detected in the area 2 of the foot of frame FR 46 at junction radius level.

This frame, that was previously repaired due to a crack finding in the area 1, was not due to be inspected before reaching the post-repair inspection threshold, i.e., 45,400 FC [flight cycles], from repair embodiment.

It has been determined that the current repairs proposed in Airbus SB A300-53-6111 and Airbus [SB] A300-53-0337 are of limited effect to prevent cracking in the area 2 of the lower frame fittings.

Consequently, as a temporary action and until an improvement of the existing repairs is made available, this [EASA] AD requires a one-time detailed visual inspection [for cracking] of [the] frame base fittings that were repaired in accordance with Airbus SB A300-53-0337, original issue or Rev. 1, or Airbus SB A300-53-6111 original issue up to Rev. 4 * * *.

The unsafe condition is cracking in the frame base fittings, which could adversely affect the structural integrity of the airplane. The required actions include repairing any cracking found. You may obtain further information by examining the MCAI in the AD docket on the Internet at http://www.regulations.gov/#!documentDetail;D=FAA-2013-0418-0002.

Comments

We gave the public the opportunity to participate in developing this AD. We have considered the comment received.

Request To Correct Typographical Error in SUMMARY Section

UPS noted there is a typographical error in the SUMMARY section of the NPRM (78 FR 28159, May 14, 2013). UPS stated that the third line includes the phrase “frame brace fittings,” but throughout the rest of the document the terminology used is “frame base fittings.” UPS suggested that for consistency throughout the document “brace” be changed to “base.”

We agree that the word “brace” should be changed to “base” and have changed the SUMMARY section of this final rule accordingly. The error only appeared in the SUMMARY section so no additional changes were necessary.

Conclusion

We reviewed the available data, including the comment received, and determined that air safety and the public interest require adopting this AD as proposed except for minor editorial changes and the correction of the typographical error in the SUMMARY section of this final rule. We have determined that these minor changes:

• Are consistent with the intent that was proposed in the NPRM (78 FR 28159, May 14, 2013) for correcting the unsafe condition; and

• Do not add any additional burden upon the public than was already proposed in the NPRM (78 FR 28159, May 14, 2013).

Costs of Compliance

We estimate that this AD affects 124 airplanes of U.S. registry.

We estimate it will take about 4 work-hours per product to comply with the basic requirements of this AD. The average labor rate is $85 per work-hour. Based on these figures, we estimate the cost of this AD on U.S. operators to be $42,160, or $340 per product.

In addition, we estimate that any necessary follow-on actions will take up to 350 work-hours and require parts costing up to $56,469 for a cost of $86,219 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov/#!docketDetail;D=FAA-2013-0418; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-23-13 Airbus: Amendment 39-17668. Docket No. FAA-2013-0418; Directorate Identifier 2012-NM-200-AD.

(a) Effective Date

This airworthiness directive (AD) becomes effective December 30, 2013.

(b) Affected ADs

None.

(c) Applicability

This AD applies to the airplanes identified in paragraphs (c)(1) and (c)(2) of this AD, certificated in any category.

(1) Airbus Model A300 B2-1A, B2-1C, B2K-3C, B2-203, B4-2C, B4-103, and B4-203 airplanes, on which any repair has been done as specified in Airbus Service Bulletin A300-53-0337, dated February 4, 1999; or Airbus Service Bulletin A300-53-0337, Revision 01, dated March 17, 2003.

(2) Airbus Model A300 B4-601, B4-603, B4-620, and B4-622 airplanes; Model A300 B4-605R and B4-622R airplanes; Model A300 F4-605R and F4-622R airplanes; and A300 C4-605R Variant F airplanes; on which any repair has been done as specified in any of the service information identified in paragraphs (c)(2)(i), (c)(2)(ii), (c)(2)(iii), (c)(2)(iv), (c)(2)(v), and (c)(2)(vi) of this AD.

(i) Airbus Service Bulletin A300-53-6111, dated February 4, 1999.

(ii) Airbus Service Bulletin A300-53-6111, Revision 01, dated March 17, 2003.

(iii) Airbus Service Bulletin A300-53-6111, Revision 02, dated September 13, 2004.

(iv) Airbus Service Bulletin A300-53-6111, Revision 03, dated September 30, 2009.

(v) Airbus Mandatory Service Bulletin A300-53-6111, Revision 04, dated August 25, 2011.

(vi) Airbus Mandatory Service Bulletin A300-53-6111, Revision 05, dated January 28, 2013.

(d) Subject

Air Transport Association (ATA) of America Code 53, Fuselage.

(e) Reason

This AD was prompted by a report that cracking was found in area 2 of the frame base fittings between frame 41 and frame 46. We are issuing this AD to detect and correct cracking in area 2 of the frame base fittings between frame 41 and frame 46, which could adversely affect the structural integrity of the airplane.

(f) Compliance

You are responsible for having the actions required by this AD performed within the compliance times specified, unless the actions have already been done.

(g) Maintenance Records Check and Frame Base Fitting Inspection

Within 1,000 flight hours after the effective date of this AD: Check the airplane maintenance records to determine if repairs were done in area 1 of the frame base fittings as defined in Appendix 1 of Airbus Alert Operators Transmission A53W001-12, dated July 4, 2012.

(h) Frame Base Fitting Inspection

If, during any records check required by paragraph (g) of this AD, it is determined that area 1 of the frame base fittings was repaired: Within 1,000 flight hours after the effective date of this AD, do a detailed inspection of the frame base fittings between frame 41 and frame 46 in area 2 as defined in Appendix 1 of Airbus Alert Operators Transmission A53W001-12, dated July 4, 2012.

(i) Corrective Action

If any cracking is found during any detailed inspection required by paragraph (h) of this AD: Before further flight, repair the cracking using a method approved by the Manager, International Branch, ANM-116, Transport Airplane Directorate, FAA; or the European Aviation Safety Agency (EASA) (or its delegated agent).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; phone: 425-227-2125; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to Mandatory Continuing Airworthiness Information European Aviation Safety Agency Airworthiness Directive 2012-0229, dated October 31, 2012, for related information, which can be found in the AD docket on the Internet at http://www.regulations.gov/#!documentDetail;D=FAA-2013-0418-0002.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operators Transmission A53W001-12, dated July 4, 2012, including Appendix 1 and Appendix 2 and excluding Appendix 3.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 6, 2013.
Jeffrey E. Duven,
Acting Manager, Transport Airplane Directorate, Aircraft Certification Service.

[FR Doc. 2013-27832 Filed 11-22-13; 8:45 am]

BILLING CODE 4910-13-P